DEPARTMENT OF HEALTH AND HUMAN SERVICES

Centers for Disease Control and Prevention

[Program Announcement 02208]

Program To Promote Pediatric Trauma Training; Notice of Award of Funds

A. Purpose

The Centers for Disease Control and Prevention (CDC) announces the award of fiscal year (FY) 2002 funds for a grant Program to Promote Pediatric Trauma Training.

The purpose of this program is to provide a training program in pediatric trauma for pre-hospital providers including prevention messages to reduce morbidity and mortality to pediatric patients who have suffered traumatic injuries. This program addresses the “Healthy People 2010” focus area of Injury and Violence Prevention.

B. Eligible Applicant

Assistance is provided only to the Westchester County Department of Emergency Services. No other applications were solicited. H.R. Conf. Rep. No. 107-342, at 87 (2002) specifically directs CDC to award funds to this organization.

C. Funds

Approximately $86,184 is being awarded in FY 2002. The award will begin on or about September 1, 2002, and will be made for a 12-month budget period within a project period of 1 year.

D. Where To Obtain Additional Information

For business management technical assistance, contact: Van A King, Grants Management Specialist, Procurement and Grants Office, Centers for Disease Control and Prevention, 2920 Brandywine Road, Room 3000, Atlanta, GA 30341-4146. Telephone number (770) 488-2751. E-mail address vbk5@cdc.gov.

For program technical assistance, contact: Paul Burlack, Centers for Disease Control and Prevention, National Center for Injury Prevention and Control, 4770 Buford Highway, Mailstop F42, Atlanta, GA 30341-3724. Telephone number (770) 488-4713. E-mail address PBurlack@cdc.gov.

Dated: September 11, 2002.
Sandra R. Manning,
CGFM, Director, Procurement and Grants Office, Centers for Disease Control and Prevention.

[FR Doc. 02-23927 Filed 9-19-02; 8:45 am]

BILLING CODE 4163-18-P